NUCLEAR REGULATORY COMMISSION

[Docket Nos. 52-012 and 52-013; NRC-2008-0091]

Nuclear Innovation North America LLC; South Texas Project, Units 3 and 4

AGENCY: Nuclear Regulatory Commission.

ACTION: Combined license application; availability.

SUMMARY: On September 20, 2007, South Texas Project Nuclear Operating Company (STPNOC) submitted to the U.S. Nuclear Regulatory Commission (NRC) an application for combined licenses (COLs) for two additional units (Units 3 and 4) at the South Texas Project (STP) Electric Generating Station site in Matagorda County near Bay City, Texas. The NRC published a notice of receipt and availability for this COL application in the Federal Register on December 5, 2007. In a letter dated January 19, 2011, STPNOC notified the NRC that, effective January 24, 2011, Nuclear Innovation North America LLC (NINA) became the lead applicant for STP, Units 3 and 4. This notice is being published to notify the public of the availability of the COL application for STP, Units 3 and 4.

DATES: The COL application is available on April 28, 2015.

ADDRESSES: Please refer to Docket ID NRC-2008-0091 when contacting the NRC about the availability of information regarding this document. You may access publicly-available information related to this action by the following methods:

• Federal Rulemaking Web site: Go to http://www.regulations.gov and search for Docket ID NRC-2008-0091. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Tom Tai, telephone: 301-415-8484, email: Tom.Tai@nrc.gov; or Luis Betancourt, telephone: 301-415-6145, email: Luis.Betancourt@nrc.gov. Both are staff of the Office of New Reactors, U.S. Nuclear Regulatory Commission, Washington, DC 20555-0001.

SUPPLEMENTARY INFORMATION: On September 20, 2007, the NRC received a COL application from STPNOC, filed pursuant to section 103 of the Atomic Energy Act of 1954, as amended, and part 52 of title 10 of the Code of Federal Regulations (10 CFR), “Licenses, Certifications, and Approvals for Nuclear Power Plants,” to construct and operate two additional units (Units 3 and 4) at the STP Electric Generating Station site in Matagorda County near Bay City, Texas. The additional units are based on the U.S. Advanced Boiling Water Reactor design, which is certified in 10 CFR part 52, appendix A. The NRC published a notice of receipt and availability for an application for a COL in the Federal Register on December 5, 2007 (72 FR 68597). In a letter dated January 19, 2011, STPNOC notified the NRC that, effective January 24, 2011, NINA became the lead applicant for STP, Units 3 and 4. As such, NINA assumed responsibility for the design, construction and licensing of STP, Units 3 and 4. The application is currently under review by the NRC.

An applicant may seek a COL in accordance with subpart C of 10 CFR part 52. The information submitted by the applicant includes certain administrative information, such as financial qualifications submitted pursuant to 10 CFR 52.77, as well as technical information submitted pursuant to 10 CFR 52.79. This notice is being provided in accordance with the requirements in 10 CFR 50.43(a)(3).

Availability of Documents

The documents identified in the following table are available to interested persons through the ADAMS Public Documents collection. A copy of the COL application is also available for public inspection at the NRC's PDR and at http://www.nrc.gov/reactors/new-reactors/col.html.

Document | ADAMS Accession No.
South Texas Project, Units 3 and 4, Combined License Application, Revision 0, September 20, 2007 | ML072830407
South Texas Project, Units 3 and 4, Supplement to Combined License Application “Safeguards Information,” Part 8, Revision 0, September 26, 2007 | ML072740461
South Texas Project, Units 3 and 4, Supplement to Combined License Application Revision 0, October 15, 2007 | ML072960352
South Texas Project, Units 3 and 4, Supplement to Combined License Application Revision 0, October 18, 2007 | ML072960489
South Texas Project, Units 3 and 4, Supplement to Combined License Application Revision 0, November 13, 2007 | ML073200992
South Texas Project, Units 3 and 4, Supplement to Combined License Application Revision 0, November 21, 2007 | ML073310616
South Texas Project, Units 3 and 4, Combined License Application, Revision 1, January 31, 2008 | ML080700399
South Texas Project, Units 3 and 4, Submittal of Supplement to Combined License Application “Safeguards Information,” Part 8, Revision 1, January 31, 2008 | ML080420090
South Texas Project, Units 3 and 4, Combined License Application, Revision 2, September 24, 2008 | ML082830938
South Texas Project, Units 3 and 4, Submittal of Supplement to Combined License Application “Safeguards Information,” Part 8, Revision 2, September 24, 2008 | ML082730700
South Texas Project, Units 3 and 4, Submittal of Combined License Application, “Proprietary Information,” Part 10, Revision 2, December 11, 2008 | ML083530131
South Texas Project, Units 3 and 4, Combined License Application, Revision 3, September 16, 2009 | ML092930393
South Texas Project, Units 3 and 4, Submittal of Supplement to Combined License Application “Safeguards Information,” Part 8, Revision 3, July 15, 2010 | ML102010268
South Texas Project, Units 3 and 4, Combined License Application, Revision 4, October 5, 2010 | ML102861292
South Texas Project, Units 3 and 4, Submittal of Supplement to Combined License Application “Safeguards Information,” Part 8, Revision 4, February 3, 2011 | ML110400425
South Texas Project, Units 3 and 4, Update to Change in Lead Applicant, January 19, 2011 | ML110250369
South Texas Project, Units 3 and 4, Combined License Application, Revision 5, January 26, 2011 | ML110340451
South Texas Project, Units 3 and 4, Submittal of Supplement to Combined License Application “Safeguards Information,” Part 8, Revision 5, August 30, 2011 | ML11243A171
South Texas Project, Units 3 and 4, Combined License Application, Revision 6, August 30, 2011 | ML11252A505
South Texas Project, Units 3 and 4, Combined License Application, Revision 7, February 1, 2012 | ML12048A714
South Texas Project, Units 3 and 4, Combined License Application, Revision 8, September 17, 2012 | ML12291A415
South Texas Project, Units 3 and 4, Combined License Application, Revision 9, April 17, 2013 | ML13115A094
South Texas Project, Units 3 and 4, Combined License Application, Revision 10, October 29, 2013 | ML13310A599
South Texas Project, Units 3 and 4, Combined License Application, Revision 11, October 21, 2014 | ML14307A876

Dated at Rockville, Maryland, this 22nd day of April 2015.
For the Nuclear Regulatory Commission.
Samuel Lee,
Chief, Licensing Branch 2, Division of New Reactor Licensing, Office of New Reactors.

[FR Doc. 2015-09904 Filed 4-27-15; 8:45 am]

BILLING CODE 7590-01-P